DEPARTMENT OF COMMERCE

National Oceanic and Atmospheric Administration

RIN 0648-XS84

North Pacific Fishery Management Council; Public Meeting

AGENCY: National Marine Fisheries Service (NMFS), National Oceanic and Atmospheric Administration (NOAA), Commerce.

ACTION: Notice of a public meeting of the North Pacific Fishery Management Council and Alaska Board of Fisheries.

SUMMARY: The North Pacific Fishery Management Council (Council) and the Alaska Board of Fisheries will meet in Anchorage, AK.

DATES: The meeting will be held on December 8, 2009, from 10 a.m. to 5 p.m.

ADDRESSES: The meeting will be held at the Anchorage Hilton Hotel, 500 W 3rd Avenue, Aleutian Room, Anchorage, AK.

Council address: North Pacific Fishery Management Council, 605 W. 4th Ave., Suite 306, Anchorage, AK 99501-2252.

FOR FURTHER INFORMATION CONTACT: Council staff, Jane Dicosimo; telephone: (907) 271-2809.

SUPPLEMENTARY INFORMATION: Review Joint Protocol; Status of Steller Sea Lion Biological Opinion; Discuss Board proposals potentially affecting federal groundfish fisheries; Status of proposed GOA cod federal actions; Status of chum salmon bycatch action; Crab and Scallop annual catch limits; Update on Council community outreach; Update on Walrus and fishery interaction issues; Update on Arctic Fishery Management Plan; Update on Federal Observer Program changes; Other business. The Agenda is subject to change, and the latest version will be posted at http://www.alaskafisheries.noaa.gov/npfmc/.

Although other non-emergency issues not on the agenda may come before this group for discussion, in accordance with the Magnuson-Stevens Fishery Conservation and Management Act, those issues may not be the subject of formal action during this meeting. Action will be restricted to those issues specifically identified in the agenda and any issues arising after publication of this notice that require emergency action under Section 305(c) of the Magnuson-Stevens Fishery Conservation and Management Act, provided the public has been notified of the Council's intent to take action to address the emergency.

Special Accommodations

The meeting is physically accessible to people with disabilities. Requests for sign language interpretation or other auxiliary aids should be directed to Gail Bendixen at (907) 271-2809 at least 7 working days prior to the meeting date.

Dated: November 9, 2009.
Tracey L. Thompson,
Acting Director, Office of Sustainable Fisheries, National Marine Fisheries Service.

[FR Doc. E9-27265 Filed 11-12-09; 8:45 am]

BILLING CODE 3510-22-S